DEPARTMENT OF ENERGY

Federal Energy Regulatory Commission

Notice of Applications To Amend Licenses and Soliciting Comments, Motions To Intervene, and Protests

April 5, 2001.

Take notice that the following hydroelectric applications have been filed with the Commission and are available for public inspection:

a. Type of Applications: Non-capacity amendments to licenses.

b. Project Nos.: 5461-047 and 2385-004.

c. Dates Filed: March 28, 2001 (P-5461-047); April 4, 2001 (P-2385-004).

d. Applicants: South Glens Falls Limited Partnership and Niagara Mohawk Power Corporation (P-5461); Finch, Pruyn & Company, Inc. (P-2385).

e. Name of Projects: South Glens Falls (P-5461); Glens Falls (P-2385).

f. Locations: The projects are located on the Hudson River in Saratoga and Warren Counties, New York. The projects do not occupy any Federal or tribal lands.

g. Filed Pursuant to: Federal Power Act 16 U.S.C. 791(a)-825(r).

h. Applicant Contacts: (P-5461) Daniel J. McCarty, Manager-Hydro Operations, Adirondack Hydro Development Corporation, 39 Hudson Falls Road, South Glens Falls, NY 12803; (P-2385) Gregory M. Smotzer, Finch, Pruyn & Company, Inc., 1 Glen Street, Glens Falls, NY 12801.

i. FERC Contact: Steve Naugle, steven.naugle@ferc.fed.us, 202-219-2805.

j. Deadline for filing comments and or motions: 14 days from the issuance date of this notice. All documents (original and eight copies) should be filed with Mr. David P. Boergers, Secretary, Federal Energy Regulatory Commission, 888 First Street, NE., Washington, DC 20426. Comments and protests may be filed electronically via the internet in lieu of paper. See, 18 CFR 385.2001(a)(1)(iii) and the instructions on the Commission's web site at http://www.ferc.fed.us/efi/doorbell.htm. Please reference the following project numbers on any comments or motions filed: P-5461-047 and P-2385-004.

k. Description of the Applications: The applications are requests for amendments to the licenses for the South Glens Falls and Glens Falls Projects to provide temporary relief from certain license requirements during the replacement of the Route 9 Bridge over the Hudson River by the New York Department of Transportation. The bridge replacement project is expected to start on May 1, 2001 and end on June 4, 2004.

The requested license amendments for the South Glens Falls Project include temporary closure of the project's recreation facilities, the temporary covering of two public safety signs, and the temporary suspension of the requirement to operate the dam crest gate adjacent to the project intake first during high flows if necessary due to construction activities. The requested license amendments for the Glens Falls Project include temporary closure of the project's recreation facilities and temporary removal and storage of signs in and around the project's public viewing area and picnic overlook. The Glens Falls application also identifies certain measures under consideration in the project's pending relicensing proceeding that may need similar temporary relief if the measures are required in any new license issued for the project.

l. Locations of the Applications: Copies of the applications are available for inspection and reproduction at the Commission's Public Reference Room, at 888 First Street, NE., Room 2A, Washington, DC 20426, or by calling 202-208-1371. The applications may be viewed on-line at http:\\www.ferc.fed.us/online/rims.htm (call 202-208-2222 for assistance). A copy is also available for inspection and reproduction at the addresses in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street NE., Mail Stop PJ-12.1, Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-8863 Filed 4-10-01; 8:45 am]

BILLING CODE 6717-01-M